DEPARTMENT OF COMMERCE

National Institute of Standards and Technology

National Council on Weights and Measures 2025 Interim Meeting

AGENCY: National Institute of Standards and Technology, Commerce.

ACTION: Notice.

SUMMARY: The 2025 Interim Meeting of the National Council on Weights and Measures (NCWM) will be held in-person at the Francis Marion Hotel, Charleston, South Carolina from Sunday, January 12, 2025, through Wednesday, January 15, 2025. This notice contains information about the most significant agenda items of the NCWM committees. As a result, the items are not consecutively numbered.

DATES: The 2025 NCWM Interim Meeting will be held from Sunday, January 12, 2025, through Wednesday, January 15, 2025. The meeting schedule will be available on the NCWM website at www.ncwm.com.

ADDRESSES: This meeting will be held at the Francis Marion Hotel, with an address at 387 King Street, Charleston, South Carolina 29403.

FOR FURTHER INFORMATION CONTACT: Dr. Katrice Lippa, NIST, Office of Weights and Measures, 100 Bureau Drive, Stop 2600, Gaithersburg, MD 20899-2600. You may also contact Dr. Lippa at (301) 975-3116 or by email at katrice.lippa@nist.gov. The meeting is open to the public, but the payment of a registration fee is required. Please see the NCWM website (www.ncwm.com) to view the meeting agendas, registration forms, and hotel reservation information.

SUPPLEMENTARY INFORMATION: Publication of this notice on the NCWM's behalf is undertaken as a public service and does not itself constitute an endorsement by the National Institute of Standards and Technology (NIST) of the content of the notice. NIST participates in the NCWM as an NCWM member and pursuant to 15 U.S.C. 272(b)(10) and (c)(4) and in accordance with Federal policy (e.g., OMB Circular A-119 “Federal Participation in the Development and Use of Voluntary Consensus Standards”).

The NCWM is an organization of weights and measures officials of the states, counties, and cities of the United States, and representatives from the private sector and federal agencies. These meetings bring together government officials and representatives of business, industry, trade associations, and consumer organizations on subjects related to the field of weights and measures technology, administration, and enforcement. NIST hosted the first meeting of the NCWM in 1905. Since then, the council has provided a model of cooperation between Federal, State, and local governments and the private sector. NIST participates in the NCWM to provide technical insights and expertise and encourage cooperation between the private sector, federal agencies, and the states in the development of legal metrology requirements. NIST also promotes uniformity in state laws, regulations, and testing procedures used in the regulatory control of commercial weighing and measuring devices, packaged goods, and for other trade and commerce issues.

The NCWM has established multiple committees, task groups, and other working bodies to address legal metrology issues of interest to, inter alia, regulatory officials, industry representatives, and consumers. Comments will be taken by the various NCWM committees on agenda items during the open hearing portions of the meeting identified in the meeting schedule. At this stage, the items are proposals. The open hearing sessions are accessible to all registered attendees of the meeting, including both NCWM members and non-members. The meeting also includes committee work sessions in which the committees may, inter alia, accept comments, withdraw or carryover agenda items that need additional maturation, and develop recommendations for the agenda items for consideration and possible adoption in July 2025 at the NCWM 110th Annual Meeting.

These notices are intended to make interested parties aware of significant agenda items and alert them to the committees' intentions to share reports on the status of each at the 2025 NCWM Interim Meeting. The notices are also presented to invite the participation of manufacturers, experts, consumers, users, and others who may be interested in these efforts.

The following are brief descriptions of significant agenda items that will receive further consideration by the standing committees at the upcoming 2025 NCWM Interim Meeting. The full agenda of each standing committee is provided in NCWM Publication 15 (ncwm.com/publication-15). Comments will be taken on recommendations intended to amend NIST Handbook 44, “Specifications, Tolerances, and Other Technical Requirements for Weighing and Measuring Devices” (NIST HB 44), NIST Handbook 130, “Uniform Laws and Regulations in the Areas of Legal Metrology and Fuel Quality” (NIST HB 130), and NIST Handbook 133, “Checking the Net Contents of Packaged Goods” (NIST HB 133). The NIST Handbooks are regularly adopted by the states, either by reference or through administrative procedures.

NCWM S&T Committee

The NCWM Specifications and Tolerances Committee (S&T Committee) will consider proposed amendments to NIST HB 44, including those identified below. A detailed technical review by the NIST Office of Weights and Measures of the S&T Committee agenda items will be made available prior to the 2025 NCWM Interim Meeting in the 2025 NIST OWM Interim Technical Analysis at https://www.nist.gov/pml/owm/publications/owm-technical-analysis.

SCL—Scales

SCL-25.1 S.5.2. Parameters for Accuracy Class, S.6. Marking Requirements, and UR.3. Use Requirements

The S&T Committee will consider a new proposal submitted by NIST Office of Weights and Measures. The proposal is to amend the requirements to establish a minimum capacity for scales and require that information to be marked on new scales.

SCL-25.3 UR.3.14. Zero-Balance Recorded Weight for Forklift Scales

The S&T Committee will consider a new proposal submitted by the Pennsylvania Bureau of Ride and Measurement Standards. The proposal is to add a requirement for forklift scales that would require these devices to indicate and record a zero-balance condition prior to determining the weight of the load on the device.

FMT—Farm Milk Tanks

FMT-25.1 UR.1. Installation

The S&T Committee will consider a new proposal submitted by the USDA-AMS-Dairy Programs. The proposal amends the current section 4.42. Farm Milk Tanks Code paragraph UR.1. Installation to require the leveling legs on stationary farm milk tanks to be permanently attached to the floor by cement as a means to prevent any adjustment to the leveling legs after calibration. The proposal removes the option for defining the correct position of each leg on the floor for tanks that are not permanently mounted in the facility.

Item Block 1 (B1)

TXI—Taximeters and TNS—Transportation Network Measurement Systems

B1-TXI-25.1 5.54 Transportation-For-Hire Systems

The S&T Committee will consider a new proposal submitted by the NCWM Transportation-for-Hire Systems Task Group. The proposal would revise section 5.54., currently titled “Taximeters,” and rename it “Transportation-For-Hire Systems.” The new revised section would combine the existing requirements for taximeters in section 5.54. with those that are currently in section 5.60. Transportation Network Measurement Systems to create a single section addressing both types of vehicle for hire applications.

B1-TNS-25.1 Section 5.60. Transportation Network Measurement Systems—Tentative Code

The S&T Committee will consider a new proposal submitted by the Transportation-for-Hire Systems Task Group. The proposal would consolidate section 5.60. Transportation Network Measurement Systems with section 5.54. Taximeters. Both sets of requirements would be incorporated into an updated and renamed section 5.54., and section 5.60. would be removed from NIST HB 44.

OTH—Other Items

OTH-25.1 2.26. Weigh-in-Motion Systems Used for Vehicle Direct Enforcement

The S&T Committee will consider a proposal submitted by New York City Department of Transportation, NY State Department of Agriculture and Markets, NJ Office of Weights and Measures, Oregon Department of Agriculture, Washington DC Department of Transportation, C2SMART, and Kistler. The proposal is to include a new Section 2.26. Weigh-in-Motion Systems Used for Vehicle Direct Enforcement to NIST HB 44 that provides standards that can be used by local and State agencies to certify Weigh-In-Motion (WIM) systems used for automated enforcement of gross vehicle weight limits.

NCWM L&R Committee

The NCWM Laws and Regulations Committee (L&R Committee) will consider proposed amendments to NIST HB 130, including those identified below. A detailed technical review by the NIST Office of Weights and Measures of the L&R Committee agenda items will be made available prior to the 2025 NCWM Interim Meeting in the 2025 NIST OWM Interim Analysis at https://www.nist.gov/pml/owm/publications/owm-technical-analysis.

MOS—NIST Handbook 130

NET-24.2. 2.16.3.1. Tare Weights; Part (c) Allowable difference

The L&R Committee will further consider a proposal to clarify the existing language for the method of sale for stamped or stenciled tare weights of Liquefied Petroleum Gas cylinders. This will include changes to existing language within NIST HB 130 that references tolerances for cylinders. It is intended to resolve the discrepancy that exists between NIST Handbook 130 and Title 49 of the Code of Federal Regulations with respect to the allowable differences between the stamped tare weight and the actual tare weight of cylinders used for compressed or liquefied gases in refillable cylinders.

OTH—NIST Handbook 130

OTH-24.1 X. Uniform Shipping Law

The L&R Committee will further consider a proposal that has been designated as an “Assigned” item, meaning that further development will be done by the NCWM Uniform Shipping Law Task Group. This proposal provides model language for inclusion in NIST HB 130 that would establish Uniform Shipping Laws meant to ensure accurate shipment of goods. This regulation includes language authorizing the enforcement of these regulations, empowers the state to promulgate regulations as needed to carry out the provisions of the Act, and provides for civil and criminal penalties. The development of this item will include outreach to stakeholders, including federal agencies.

FALS—Fuels and Lubricants Subcommittee

B2-FLR-24.1 3.12.1.X Identification of Grade & 3.12.2.X. Identification of Grade

The L&R Committee will further consider a proposal that has been designated as an “Assigned” item, meaning that the NCWM Fuels and Lubricants Subcommittee is being tasked to fully develop the proposal to ensure the applicable ASTM fuel grade designations are clearly identified for the marketplace. This proposal provides language for a new NIST HB 130 regulation that specifies labeling requirements that will properly identify the grade of natural gas (compressed and liquified to include blends of these products with hydrogen) when this product is dispensed and sold as a vehicle fuel. These standards will be applicable at the point fuel is dispensed into the vehicle.

Alicia Chambers,
NIST Executive Secretariat.

[FR Doc. 2024-27838 Filed 11-26-24; 8:45 am]

BILLING CODE 3510-13-P